DEPARTMENT OF COMMERCE

International Trade Administration

[A-791-819]

Notice of Postponement of Final Antidumping Duty Determination: Certain Aluminum Plate From South Africa

AGENCY: Import Administration, International Trade Administration, Department of Commerce.

Effective Date: Effective Date: June 3, 2004.

FOR FURTHER INFORMATION CONTACT: Rebecca Trainor or Kate Johnson, Office 2, AD/CVD Enforcement Group I, Import Administration-Room B099, International Trade Administration, U.S. Department of Commerce, 14th Street and Constitution Avenue, NW., Washington, DC 20230; telephone: (202) 482-4007 or (202) 482-4929, respectively.

SUPPLEMENTARY INFORMATION:

Background

On May 21, 2004, the Department of Commerce (“the Department”) published the Notice of Preliminary Determination of Sales at Less-Than-Fair-Value: Certain Aluminum Plate from South Africa, 69 FR 29262. The final determination of this investigation is currently due no later than July 27, 2004. Pursuant to section 735(a)(2) of the Tariff Act of 1930, as amended (“the Act”), on May 27, 2004, Hulett Aluminium (Pty) Limited (“Hulett”), the sole South African respondent, requested that the Department postpone its final determination in the investigation until 135 days after the date of the publication of the preliminary determination in the Federal Register.¹ In addition, in accordance with section 19 CFR 351.210(e)(2), Hulett requested that the Department extend the application of the provisional measures prescribed under section 733(d) of the Act to not more than six months.

¹ Hulett initially filed its deadline extension request on May 20, 2004, but subsequently revised it on May 27, 2004.

Postponement of Final Determination and Extension of Provisional Measures

Section 735(a)(2)(A) of the Act provides that a final determination may be postponed until not later than 135 days after the publication of the preliminary determination, if, in the event of an affirmative determination, a request for such postponement is made by exporters which account for a significant proportion of exports of the subject merchandise. The Department's regulations, at 19 CFR 351.210(e)(2), require that request by respondents for postponement of a final determination be accompanied by a request for extension of provisional measures from a four-month period to not more than six months. In accordance with 19 CFR 351.210(b), because (1) our preliminary determination is affirmative, (2) the requesting exporter accounts for a significant proportion of exports of the subject merchandise, and (3) no compelling reasons for denial exist, we are granting Hulett's request and are fully extending the due date for the final determination by 60 days, until no later than October 4, 2004.² Suspension of liquidation will be extended accordingly.

² Because 135 days from the date of publication of the preliminary determination (October 3, 2004) falls on a weekend, the Departments's final determination will be postponed until October 4, 2004, the first business day thereafter.

Dated: May 27, 2004.
Jeffrey May,
Deputy Assistant Secretary for Import Administration.

[FR Doc. 04-12605 Filed 6-2-04; 8:45 am]

BILLING CODE 3510-DS-P